DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 22, 2008.

Address Comments to: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for special permit is published in accordance with Part 107 of the Federal hazardous materials transportation law (49 U.S.C. 5117(b); 49 CFR 1.53(b)).

Issued in Washington, DC, on April 15, 2008.
Delmer F. Billings,
Director, Office of Hazardous Materials, Special Permits and Approvals.

New Special Permits
Application No. | Docket No. | Applicant | Regulation(s) affected | Nature of special permits thereof
14671-N |  | SGL Carbon LLC, Charlotte, NC | 49 CFR 173.240 | To authorize the transportation of Class 9 hazardous materials in an open flat-bed railcar. (mode 2)
14676-N |  | Pacific Bio-Material Management, Inc. dba Pacific Scientific Transport, Fresno, CA | 49 CFR 173.196(b); 173.1 96(e)(2)(ii) | To authorize the transportation in commerce of certain Category A infectious substances in specially designed packaging (freezers). (mode 1)
14677-N |  | Axiom Inc., Maple Plains, N/IN | 49 CFR 173.213 | To authorize the transportation in commerce of Celluloid sheet, Division 4.1, in a non-DOT specification fiberboard box. (mode 1)
14678-N |  | LND, Inc., Oceanside, NY | 49 CFR 172.101, Co. 9; 173.306; 175.3 | To authorize the transportation in commerce of non-DOT specification containers (neutron detectors) containing boron trifluoride. (mode 1)
14679-N |  | Southwest Airlines Dallas, TX | 49 CFR 175.10 (a)(17) | To authorize the transportation in commerce of spare lithium ion batteries for use in electronic devices used by the crew as part of their job function within an aircraft cabin. (mode 5)
14680-N |  | Arkema, Inc., Philadelphia, PA | 49 CFR 177.834(i)(3) | To authorize the use of video cameras and monitors to observe the loading and unloading operations meeting the definition of “loading incidental to movement” or “ unloading incidental to movement” as those terms are defined in § 171.8 of the Hazardous Materials Regulations from a remote control station in place of personnel remaining within 25 feet of a cargo tank motor vehicle. (mode 1)
14681-N |  | King Technology, Inc., Hopkins, MN | 49 CFR 173.153 | To authorize the transportation in commerce of Trichloroi-socyanuric acid, dry in packages of 2.4375 pounds each as Consumer commodity, ORM-D when transported by highway. (mode 1)
14683-N |  | A.O. Smith Corporation | 49 CFR 173.306(g) | To authorize an alternative design equation in the Milwaukee, WI manufacture, mark and sale of cylinders of deep-drawn dome design for use in transporting compressed air or compressed nitrogen. (mode 1)

[FR Doc. E8-8437 Filed 4-21-08; 8:45 am]

BILLING CODE 4909-60-M